DEPARTMENT OF AGRICULTURE

Forest Service

Southwestern Region, Arizona, New Mexico, West Texas, and West Oklahoma Amendment of Land and Resource Management Plans in the Southwestern Region

AGENCY: Forest Service, USDA.

ACTION: Cancellation of notice of intent to prepare an environmental impact statement.

SUMMARY: The Southwestern Region of the Forest Service planned to prepare an environmental impact statement on a proposal to amend National Forest land and resource management plans to incorporate standards and guidelines for management of habitat for American peregrine falcon, Little Colorado River spinedace, loach minnow, spikedace, Apache trout, Chihuahua chub, Gila trout, Gila top minnow, razorback sucker, southwest willow flycatcher, cactus ferruginous pygmy owl, Sonora tiger salamander, New Mexico ridgenose rattlesnake, and Pima pineapple cactus. The amendment would have added new standards and guidelines to existing direction for the protection of federally listed threatened and endangered species.

The Notice of Intent to Prepare an Environmental Impact Statement was published in the Federal Register on Monday, June 1, 1998 (63 FR 29692-29695). A Revised Notice of Intent to Prepare an Environmental Impact Statement was published in the Federal Register on Tuesday, September 28, 1999 (64 FR 52274). Since that time, considerable analysis has gone into reviewing the adequacy of Forest Plans with respect to protection of Federally listed threatened and endangered species. We found that existing direction in the eleven Forest Plans provides adequate protection for the species considered in the consultation. Forest Plans currently allow Forest Supervisors and District Rangers the discretion to apply appropriate protection measures for Federally listed threatened and endangered species when designing site-specific projects. Site-specific projects are subject to consultation as required by Section 7 of the Endangered Species Act, further ensuring the adequacy of protective measures for Federally listed threatened and endangered species.

For these reasons, I hereby cancel the referenced Notices of Intent to Prepare an Environmental Impact Statement.

FOR FURTHER INFORMATION CONTACT: Director of Ecosystem Analysis and Planning, 517 Gold Ave. SW, Albuquerque, New Mexico 87102, (505) 842-3251.

Dated: February 16, 2001.
James T. Gladen,
Deputy Regional Forester.

[FR Doc. 01-4471 Filed 2-22-01; 8:45 am]

BILLING CODE 3410-11-U